DEPARTMENT OF DEFENSE

Department of the Army; Corps of Engineers

Intent To Prepare an Environmental Impact Statement for the Northern Colorado Water Conservancy District's Northern Integrated Supply Project

AGENCY: Department of the Army, U.S. Army Corps of Engineers, DoD.

ACTION:

Notice of intent.

SUMMARY: The U.S. Army Corps of Engineers (COE) is preparing an Environmental Impact Statement (EIS) to analyze the direct, indirect, and cumulative effects of a proposed water supply project, the Northern Integrated Supply Project. Construction of the proposed Project is expected to result in temporary and permanent impacts to jurisdictional waters of the United States, thereby requiring a Clean Water Act section 404 permit. The Project is a collaborative regional water supply project between 15 water providers (Participants) and the Northern Colorado Water Conservancy District acting by and through the Northern Integrated Supply Project Water Activity Enterprise (District). The Project will provide approximately 37,000 acre-feet of new reliable water supply, which will meet a portion of the Participants' estimated 2025 additional water supply needs. The Northern Integrated Supply Project would be a non-Federal project constructed, owned, and operated by the District.

DATES: Scoping meetings will be held on:

1. September 20, 3004, 6:30 to 9 p.m., Eaton, CO.

2. September 21, 2004, 6:30 to 9 p.m., Fort Collins, CO.

3. September 22, 2004, 6:30 to 9 p.m., Fort Collins, CO.

ADDRESSES: The scoping meeting locations are:

1. September 20, 2004, at the Eaton Country Club, 37661 Weld County Road 39, Eaton, CO.

2. September 21, 2004, at the Fort Collins Lincoln Center, Columbine Room, 417 West Magnolia Street, Fort Collins, CO.

3. September 22, 2004, at the American Legion Post 4, 2124 Country Road 54 G, Fort Collins, CO.

FOR FURTHER INFORMATION CONTACT: Questions and comments regarding the proposed action and EIS should be addressed to Mr. Chandler Peter, Project Manager, U.S. Army Corps of Engineers, 2232 Dell Range Blvd., Suite 210, Cheyenne, WY 82009; (307) 772-2300; chandler.j.peter@usace.army.mil.

SUPPLEMENTARY INFORMATION: The COE will be conducting public scoping meetings at three locations (See DATES and ADDRESSES) to describe the Project, preliminary alternatives, the NEPA compliance process, and to solicit input on the issues and alternatives to be evaluated and other related matters. Written comments for scoping will be accepted until October 25, 2004. The COE has prepared a scoping announcement to familiarize agencies, the public and interested organizations with the proposed Project and potential environmental issues that may be involved. The scoping announcement includes a list of the Participants' water supply requests for the Project. Copies of the scoping announcement will be available at the public scoping meetings or can be requested by mail.

The Participants are a group of growing towns and rural domestic water districts located in Larimer, Weld, and Boulder Counties, Colorado. The Participants are: Berthoud, Central Weld County Water District, East Larimer County Water District, Eaton, Erie, Evans, Fort Collins Loveland Water District, Fort Lupton, Fort Morgan, Lafayette, Left Hand Water District, Little Thompson Water District, North Weld County Water District, Northern Colorado Water Association, and Windsor.

The District and Participants have identified a preferred configuration of the Project as part of their Phase II Alternatives Evaluation efforts. The proposed Project would occur in Larimer and Weld Counties in Colorado. It would include a proposed Glade Reservoir with a capacity of approximately 177,000 acre-feet. Associated with Glade Reservoir are a forebay, pump station, and canal upgrade to convey water diverted from the Cache la Poudre River to the proposed reservoir. A pipeline connecting the proposed Glade Reservoir to the existing Horsetooth Reservoir is proposed. Glade Reservoir would innundate a section of U.S. Highway 287 and require the relocation of about 7 miles of the highway. Additionally, Glade Reservoir would innundate a section of the North Poudre Supply Canal and a portion of the canal would need to be rerouted. The proposed Project also would include a proposed Galeton Reservoir with a capacity of approximately 30,000 acre-feet. Associated with Galeton Reservoir are a forebay, pump station, and pipeline to deliver South Platte River water to Galeton Reservoir. Water exchanges between the Galeton Reservoir and Glade Reservoir diversion locations are proposed.

Most of the Participants predominantly rely on Colorado-Big Thompson (C-BT) units to meet their growing water supply needs. The Participants recognize that there is a finite amount of C-BT units remaining in the market and that a collaborative effort to secure additional firm water supplies is preferable to each entity independently developing a new water supply. In the future, there could be additional Participants and an increased request for water supply to be provided by the Project because other water providers are considering participating in the Project. The District formed in 1937 under the Colorado Water Conservancy Act and is responsible for the operation of the water features of the Colorado-Big Thompson Project and for the coordination of cooperative water supply and management projects within the boundaries of the District.

The EIS will be prepared according to the COE's procedures for implementing the National Environmental Policy Act (NEPA) of 1969, as amended, 42 U.S.C. 4232(2)(c), and consistent with the COE's policy to facilitate public understanding and review of agency proposals. As part of the EIS process, a full range of reasonable alternatives, including the proposed Project and no action, will be evaluated.

The COE has invited the U.S. Bureau of Reclamation, the U.S. Environmental Protection Agency, the Federal Highway Administration, the U.S. Fish and Wildlife Service, the Bureau of Land Management, and the Colorado Department of Transportation to be cooperating agencies in the formulation of the EIS.

Chandler J. Peter,
Project Manager, Regulatory Branch.

[FR Doc. 04-19117 Filed 8-19-04; 8:45 am]

BILLING CODE 3710-62-M